DEPARTMENT OF TRANSPORTATION

Federal Aviation Administration

14 CFR Part 39

[Docket No. 2000-CE-49-AD]

RIN 2120-AA64

Airworthiness Directives; S.N. CENTRAIR 101 Series Gliders

AGENCY: Federal Aviation Administration, DOT.

ACTION: Notice of proposed rulemaking (NPRM).

SUMMARY: This document proposes to adopt a new airworthiness directive (AD) that would apply to certain S.N. CENTRAIR 101 series gliders. The proposed AD would require you to inspect the airbrake control system for cracks; and if cracks are detected, replace the airbrake control system. The proposed AD is the result of mandatory continuing airworthiness information (MCAI) issued by the airworthiness authority for the France. The actions specified in the proposed AD are intended to detect cracks in the airbrake control system and replace cracked parts with parts of improved design. A crack in the airbrake control system could prevent the pilot from using the airbrake system.

DATES: The Federal Aviation Administration (FAA) must receive any comments on this proposed rule by October 16, 2000.

ADDRESSES: Send comments in triplicate to the Federal Aviation Administration (FAA), Central Region, Office of the Regional Counsel, Attention: Rules Docket No. 2000-CE-49-AD, 901 Locust, Room 506, Kansas City, Missouri 64106. You may read comments at this location between 8 a.m. and 4 p.m., Monday through Friday, except holidays.

You may get service information that applies to the proposed AD from S.N. CENTRAIR, Aerodome—36300 Le Blanc, France; telephone: 02.54.37.07.96; facsimile: 02.54.37.48.64. You may read this information at the Rules Docket at the above address.

FOR FURTHER INFORMATION CONTACT: Mike Kiesov, Aerospace Engineer, FAA, Small Airplane Directorate, 901 Locust, Room 301, Kansas City, Missouri 64106; telephone: (816) 329-4144; facsimile: (816) 329-4090.

SUPPLEMENTARY INFORMATION:

Comments Invited

How do I comment on this proposed AD? We invite your comments on the proposed rule. You may send whatever written data, views, or arguments you choose. You need to include the rule's docket number and send your comments in triplicate to the address specified under the caption ADDRESSES. We will consider all comments received by the closing date specified above, before acting on the proposed rule. We may change the proposals contained in this notice because of the comments received.

Are there any specific portions of the proposed AD I should pay attention to? The FAA specifically invites comments on the overall regulatory, economic, environmental, and energy aspects of the proposed rule that might require a change to the proposed rule. You may read all comments we receive. We will file a report in the Rules Docket that summarizes each FAA contact with the public that concerns the substantive parts of this proposal.

The FAA is reviewing the writing style we currently use in regulatory documents, in response to the Presidential memorandum of June 1, 1998. That memorandum requires federal agencies to communicate more clearly with the public. We want to read your comments on the ease of understanding this document, and any other suggestions you might have to improve the clarity of FAA communications that affect you. You can get more information about the Presidential memorandum and the plain language initiative at http://www.faa.gov/language/.

How can I be sure FAA receives my comment? If you want us to acknowledge the receipt of your comments, you must include a self-addressed, stamped postcard. On the postcard, write “Comments to Docket No. 2000-CE-49-AD.” We will date stamp and mail the postcard back to you.

Discussion

What events have caused this proposed AD? The Direction Gonorale de l'Aviation Civile (DGAC), which is the airworthiness authority for France, recently told the FAA that an unsafe condition may exist on certain S.N. CENTRAIR 101 series gliders. The DGAC reports that a failure analysis of the welded parts of airbrake arms revealed that cracks could occur in these parts.

What happens if you do not correct the condition? This condition, if not corrected, could result in undetected cracks. Consequently, a crack in the airbrake control system could prevent the pilot from using the airbrake system.

Relevant Service Information

Is there service information that applies to this subject? S.N. CENTRAIR has issued Service Bulletin No. 101-16, Revision 3, dated February 2, 1999.

What are the provisions of this service bulletin? The service bulletin describes procedures for:

—Inspecting the airbrake control system for cracks; and

—Replacing the airbrake control system.

What actions did the French take? The DGAC issued French AD Number 1995-261(A) R3, dated January 26, 2000, to assure the continued airworthiness of these gliders in France.

Was this in accordance with the bilateral airworthiness agreement? S.N. CENTRAIR manufactured this glider model in France. The FAA type certificated the glider model for operation in the United States under § 21.29 of the Federal Aviation Regulations (14 CFR 21.29) and the applicable bilateral airworthiness agreement. Complying with this bilateral airworthiness agreement, the DGAC kept FAA informed about the failure analysis.

The FAA's Determination and an Explanation of the Provisions of the Proposed AD

What has FAA decided? The FAA has examined the findings of the DGAC; reviewed all available information, including the service information referenced above; and determined that:

—The unsafe condition referenced in this document exists or could develop on other S.N. CENTRAIR 101 series gliders of the same type design;

—These gliders should have the actions specified in the above service bulletin incorporated; and

—The FAA should take AD action to correct this unsafe condition.

What does this proposed AD require? This proposed AD requires you to:

—Inspect the airbrake control system for cracks; and

—If cracks are detected, replace the airbrake control system.

What are the differences between the French AD and the proposed AD? The French AD requires inspection before the next flight. The FAA requires inspection within 60 days after the effective date of the AD. Also, the French require replacement of the applicable parts; FAA requires replacement only if you find cracks during the inspection. The proposed AD requires a repetitive inspection during each 12 calendar months inspection. You may stop this repetitive inspection requirement if the part is replaced.

Why is the compliance time in calendar time? The compliance time of the proposed AD is in calendar time instead of hours time-in-service (TIS). The average monthly use of the affected sailplanes ranges throughout the fleet. For example, one owner may operate the sailplane 25 hours TIS in one week, while another operator may operate the sailplane 25 hours TIS in one year. In order to ensure that all of the owners/operators of the affected sailplane have inspected the airbrake control system within a reasonable amount of time, the FAA is proposing a compliance time of 60 calendar days after the effective date of this AD.

Cost Impact

This proposed AD impacts how many gliders? We estimate the proposed AD would affect 41 gliders in the U.S. registry.

What is the cost impact of the proposed inspection for the affected gliders on the U.S. Register? We estimate that it would take about 2 workhours for each glider to do the proposed inspection, at an average labor rate of $60 an hour. Based on the cost factors presented above, we estimate the total cost impact of the proposed inspection on U.S. operators to be $4,920, or $120 for each glider.

We estimate that it would take about 4 workhours to do the proposed replacement of a cracked part, at an average labor rate of $60 an hour. We estimate the replacement parts cost is about $100. Based on the cost factors presented above, we estimate the total cost impact of the proposed replacement on U.S. operators to be $340 for each glider.

Regulatory Impact

Does this proposed AD impact relations between Federal and State governments? The proposed regulations would not have substantial direct effects on the States, on the relationship between the national government and the States, or on the distribution of power and responsibilities among the various levels of government. We have determined that this proposed rule would not have federalism implications under Executive Order 13132.

Does this proposed AD involve a significant rule or regulatory action? For the reasons discussed above, I certify that this action (1) is not a “significant regulatory action” under Executive Order 12866; (2) is not a “significant rule” under Department of Transportation Regulatory Policies and Procedures (44 FR 11034, February 26, 1979); and (3) if put into effect, will not have a significant economic impact, positive or negative, on a substantial number of small entities under the criteria of the Regulatory Flexibility Act. We have placed a copy of the draft regulatory evaluation prepared for this action in the Rules Docket. You may get a copy of it by contacting the Rules Docket at the location provided under the caption ADDRESSES.

List of Subjects in 14 CFR Part 39

Air transportation, Aircraft, Aviation safety, Safety.

The Proposed Amendment

Therefore, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

S.N. Centrair: Docket No. 2000-CE-49-AD.

(a) What gliders are affected by this AD? Models 101, 101A, 101P, and 101AP gliders, all serial numbers up to but not including 101A0628, certificated in any category.

(b) Who must comply with this AD? Anyone who wishes to operate any of the above gliders on the U.S. Register must comply with this AD.

(c) What problem does this AD address? Our intent is the actions specified in the AD detect cracks in the airbrake control system and replace cracked parts with parts of improved design.

(d) What must I do to address this problem? To address this problem, you must do the following actions:

Actions | Compliance times | Procedures
(1) Inspect the airbrake ctronol system for cracks | Within the next 60 calendar days after the effective date of the AD and then every 12 calendar months inspection | Do this action following S.N. Centrair Service Bulletin No. 101-16, Revision 3, dated February 2, 1999.
(2) If you detect cracks, replace the airbrake control system | Before further flight after the inspection | Do this action following the S.N. Centrair maintenance manual.
(i) For sailplanes equipped with manual aileron and airbrake control systems, install S.N. Centrair part number (P/N) $YO57D or an FAA-approved equivalent part number.
(ii) For sailplanes equipped with an automatic aileron and airbrake control system, install S.N. Centrair P/N $Y818E or an FAA-approved equivalent part number.
(3) You may stop the repetitive inspection requirement of this AD by replacing the air brake control system with the applicable part referenced in this AD | (i) Before further flight if found cracked as required by paragraph (d)(1) of this AD; or (ii) At any time if the part is not cracked | Not applicable.
(4) You may not install any airbrake control system that is not of the applicable part numbers referenced in paragraphs (d)(2)(i) and (d)(2)(ii) of this AD | As of the effective date of this AD | Not applicable.

(e) Can I comply with this AD in any other way? You may use an alternative method of compliance or adjust the compliance time if:

(1) Your alternative method of compliance provides an equivalent level of safety; and

(2) The Manager, Small Airplane Directorate approves your alternative. Send your request through an FAA Principal Maintenance Inspector, who may add comments and then send it to the Manager, Small Airplane Directorate, 901 Locust, Room 301, Kansas City, Missouri 64106.

Note 1: This AD applies to each glider identified in paragraph (a) of this AD, regardless of whether it has been modified, altered, or repaired in the area subject to the requirements of this AD. For gliders that have been modified, altered, or repaired so the performance of the requirements of this AD is affected, the owner/operator must request approval for an alternative method of compliance in accordance with paragraph (e) of this AD. You should include in the request an assessment of the effect of the modification, alteration, or repair on the unsafe condition addressed by this AD; and, if you have not eliminated the unsafe condition, specific actions you propose to address it.

(f) Where can I get information about any already-approved alternative methods of compliance? You can contact Mike Kiesov, Aerospace Engineer, FAA, Small Airplane Directorate, 901 Locust, Room 301, Kansas City, Missouri 64106; telephone: (816) 329-4144; facsimile: (816) 329-4090.

(g) What if I need to fly the glider to another location to comply with this AD? The FAA can issue a special flight permit under sections 21.197 and 21.199 of the Federal Aviation Regulations (14 CFR 21.197 and 21.199) to operate your glider to a location where you can carry out the requirements of this AD.

(h) How do I get copies of the documents referenced in this AD? You may get copies of the documents referenced in this AD from S.N. Centrair, Aerodome—36300 Le Blanc, France; telephone: 02.54.37.07.96; facsimile: 02.54.37.48.64. You may read these documents at FAA, Central Region, Office of the Regional Counsel, 901 Locust, Room 506, Kansas City, Missouri 64106.

Note 2: French AD 1995-261(A) R3, dated January 26, 2000, addresses this subject.

Issued in Kansas City, Missouri, on September 7, 2000.
Michael Gallagher,
Manager, Small Airplane Directorate, Aircraft Certification Service.

[FR Doc. 00-23576 Filed 9-13-00; 8:45 am]

BILLING CODE 4910-13-P